NUCLEAR REGULATORY COMMISSION

[Docket No. 50-302]

Florida Power Corporation, Crystal River Unit 3 Nuclear Generating Plant; Exemption

1.0 Background

Florida Power Corporation (the licensee) is the holder of Facility Operating License No. DPR-72, which authorizes operation of the Crystal River Unit 3 Nuclear Generating Plant (Crystal River). The license provides, among other things, that the facility is subject to all rules, regulations, and orders of the U.S. Nuclear Regulatory Commission (the Commission) now or hereafter in effect.

The facility consists of one pressurized-water reactor located in Citrus County, Florida.

2.0 Request/Action

Title 10 of the Code of Federal Regulations (10 CFR) Section 55.59 requires that a facility's licensed operator requalification program be conducted for a continuous period not to exceed 2 years (24 months) and upon conclusion must be promptly followed, pursuant to a continuous schedule, by successive requalification programs. Each 2-year requalification program must include a biennial comprehensive written examination and annual operating tests.

By letter dated March 6, 2003, the licensee requested a one-time exemption under 10 CFR 55.11 from the schedule requirements of 10 CFR 55.59. Specifically, for Crystal River, the licensee has requested a one-time extension from December 31, 2004, to February 28, 2005, for completing the current licensed operator requalification program. The next requalification program period would begin March 1, 2005, and continue for 24 months to February 28, 2007, with successive periods running for 24 months. This requested exemption would allow an extension of 2 months beyond the 24-month requalification program schedule required by 10 CFR 55.59.

3.0 Discussion

Pursuant to 10 CFR 55.11, the Commission may, upon application by an interested person, or upon its own initiative, grant exemptions from the requirements of 10 CFR Part 55 when the exemptions are authorized by law and will not endanger life or property and are otherwise in the public interest. The exemption being requested for Crystal River is to alleviate potential scheduling difficulties associated with administering requalification examinations and completing the requalification program at the end of the 2004 calendar year. Moving the end of the requalification program to February 28, 2005, would: (1) Minimize the fall refueling outage impact on requalification examination development; (2) minimize the potential impact from any fall refueling outage extensions; (3) minimize the scheduling and resource impact from both the Thanksgiving and Christmas holidays; (4) minimize the potential scheduling and resource impact of any examination remediation or retesting requirements during the holidays; and (5) minimize the potential impact from future bargaining unit negotiations, which occur periodically in the fourth calendar quarter.

Although the 24-month schedule requirement of 10 CFR 55.59 at Crystal River would be exceeded, operator performance continues to be satisfactory, as demonstrated by the operators' strong performance during the recent end-of-cycle requalification examinations. Granting this exemption will allow Crystal River to continue with safe plant operations without undue hardship to plant personnel and Crystal River licensed operators.

4.0 Conclusion

Accordingly, the Commission has determined that, pursuant to 10 CFR 55.11, granting an exemption to the licensee from the schedule requirements in 10 CFR 55.59, by allowing Crystal River a one-time extension in the allowed time for completing the current licensed operator requalification program, is authorized by law and will not endanger life or property and is otherwise in the public interest. Therefore, the Commission hereby grants Florida Power Corporation an exemption on a one-time only basis from the schedule requirement of 10 CFR 55.59, to allow the completion date for the current licensed operator requalification program for the Crystal River Unit 3 Nuclear Generating Plant to be extended from December 31, 2004, to February 28, 2005. The next requalification program period would begin March 1, 2005, and continue for 24 months to February 28, 2007, with successive periods running for 24 months.

Pursuant to 10 CFR 51.32, the Commission has determined that the granting of this exemption will not have a significant effect on the quality of the human environment (68 FR 25069).

This exemption is effective upon issuance and expires on February 28, 2005.

For the Nuclear Regulatory Commission.
Dated at Rockville, Maryland, this 14th day of May 2003.
Bruce A. Boger,
Director, Division of Inspection Program Management, Office of Nuclear Reactor Regulation.

[FR Doc. 03-12598 Filed 5-19-03; 8:45 am]

BILLING CODE 7590-01-P